DEPARTMENT OF ENERGY

Federal Energy Regulatory Commission

Combined Notice of Filings #1

Take notice that the Commission received the following electric rate filings:

Docket Numbers: ER10-2607-006; ER10-2626-005.

Applicants: Old Dominion Electric Cooperative, TEC Trading, Inc.

Description: Triennial Market Power Update of the ODEC Entities.

Filed Date: 12/4/19.

Accession Number: 20191204-5173.

Comments Due: 5 p.m. ET 2/3/20.

Docket Numbers: ER20-517-000.

Applicants: Crooked Run Solar, LLC.

Description: Baseline eTariff Filing: Application for Market-Based Rate Authority and Request for Waivers, et al. to be effective 12/5/2019.

Filed Date: 12/4/19.

Accession Number: 20191204-5170.

Comments Due: 5 p.m. ET 12/26/19.

Docket Numbers: ER20-518-000.

Applicants: Midcontinent Independent System Operator, Inc.

Description: § 205(d) Rate Filing: 2019-12-05_SA 3269 OTP-Tatanka Ridge Wind 1st Rev GIA (J493) to be effective 11/20/2019.

Filed Date: 12/5/19.

Accession Number: 20191205-5000.

Comments Due: 5 p.m. ET 12/26/19.

Docket Numbers: ER20-519-000; TS20-2-000.

Applicants: Wilderness Line Holdings, LLC.

Description: Request for Waivers of the Standards of Conduct and Order Nos. 889 and 1000 Requirements of Wilderness Line Holdings, LLC.

Filed Date: 12/4/19.

Accession Number: 20191204-5182.

Comments Due: 5 p.m. ET 12/26/19.

Docket Numbers: ER20-520-000.

Applicants: Midcontinent Independent System Operator, Inc., GridLiance Heartland LLC.

Description: § 205(d) Rate Filing: 2019-12-05_GridLiance Heartland Rate Mitigation Credits filing to be effective 12/31/9998.

Filed Date: 12/5/19.

Accession Number: 20191205-5002.

Comments Due: 5 p.m. ET 12/26/19.

Docket Numbers: ER20-521-000.

Applicants: The Connecticut Light and Power Company.

Description: § 205(d) Rate Filing: CPV Towantic Preliminary Engineering and Design Agreement to be effective 12/5/2019.

Filed Date: 12/5/19.

Accession Number: 20191205-5012.

Comments Due: 5 p.m. ET 12/26/19.

Docket Numbers: ER20-522-000.

Applicants: AEP Texas Inc.

Description: § 205(d) Rate Filing: AEPTX-LCRA TSC Bakersfield-Solstice FDA to be effective 11/17/2019.

Filed Date: 12/5/19.

Accession Number: 20191205-5016.

Comments Due: 5 p.m. ET 12/26/19.

Docket Numbers: ER20-523-000.

Applicants: Portland General Electric Company.

Description: Compliance filing: Show Cause Compliance Filing to be effective 3/21/2018.

Filed Date: 12/5/19.

Accession Number: 20191205-5017.

Comments Due: 5 p.m. ET 12/26/19.

Docket Numbers: ER20-524-000.

Applicants: San Diego Gas & Electric Company.

Description: § 205(d) Rate Filing: 2020 SDGE TACBAA Update to Transmission Owner Tariff Filing to be effective 1/1/2020.

Filed Date: 12/5/19.

Accession Number: 20191205-5020.

Comments Due: 5 p.m. ET 12/26/19.

Docket Numbers: ER20-525-000.

Applicants: PacifiCorp.

Description: § 205(d) Rate Filing: Avista Construction Agmt—Saddle Mtn to be effective 12/6/2019.

Filed Date: 12/5/19.

Accession Number: 20191205-5027.

Comments Due: 5 p.m. ET 12/26/19.

Docket Numbers: ER20-526-000.

Applicants: California Independent System Operator Corporation.

Description: Tariff Cancellation: 2019-12-05 Notice of Cancellation EIM Implementation Agreement—Idaho Power Co. to be effective 2/4/2020.

Filed Date: 12/5/19.

Accession Number: 20191205-5109.

Comments Due: 5 p.m. ET 12/26/19.

Docket Numbers: ER20-527-000.

Applicants: California Independent System Operator Corporation.

Description: Tariff Cancellation: 2019-12-05 Notice of Cancellation EIM Implement. Agmt—Portland Gen. Electric to be effective 2/4/2020.

Filed Date: 12/5/19.

Accession Number: 20191205-5114.

Comments Due: 5 p.m. ET 12/26/19.

Docket Numbers: ER20-528-000.

Applicants: Lincoln Power, L.L.C.

Description: Baseline eTariff Filing: MBR Application to be effective 2/4/2020.

Filed Date: 12/5/19.

Accession Number: 20191205-5119.

Comments Due: 5 p.m. ET 12/26/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 5, 2019.
Nathaniel J. Davis, Sr.,
Deputy Secretary.

[FR Doc. 2019-26664 Filed 12-10-19; 8:45 am]

BILLING CODE 6717-01-P